NATIONAL SCIENCE FOUNDATION

Sunshine Act Meeting; National Science Board

The National Science Board's External Engagement Committee's Subcommittee on Honorary Awards hereby gives notice of the scheduling of a teleconference for the transaction of National Science Board business pursuant to the National Science Foundation Act and the Government in the Sunshine Act.

TIME AND DATE: November 16, 2021, from 11:00 a.m.-12:00 p.m. EST.

PLACE: This meeting will be held by teleconference through the National Science Foundation, 2415 Eisenhower Avenue, Alexandria, VA 22314.

STATUS: Closed.

MATTERS TO BE CONSIDERED: Review and Discussion of Selection Criteria; Discussion of Candidates for the 2021 Vannevar Bush Award; Discussion of Candidates for the 2021 National Science Board Public Service Award for a Group; and Discussion of Candidates for the 2021 National Science Board Public Service Award for an Individual.

CONTACT PERSON FOR MORE INFORMATION: Point of contact for this meeting is: Alison Gillespie, 2415 Eisenhower Ave., Alexandria, VA 22314, algilles@nsf.gov, (703) 292-7000.

Chris Blair,
Executive Assistant to the National Science Board Office.

[FR Doc. 2021-24877 Filed 11-9-21; 4:15 pm]

BILLING CODE P